DEPARTMENT OF VETERANS AFFAIRS

Agency Emergency Information Collection (Principles of Excellence Complaint Intake Questionnaire) Activities Under OMB—Request for Public Comment

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and public comment. The PRA submission describes the nature of the information collection and its expected cost and burden; it includes the actual data collection instrument. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and the related form for this information collection, contact the Further Information Contact listed in this notice.

DATE: Comments must be submitted on or before May 30, 2013.

ADDRESSES: Submit written comments on the collection of information through www.Regulations.gov or to VA's OMB Desk Officer, OMB Human Resources and Housing Branch, New Executive Office Building, Room 10235, Washington, DC 20503 (202) 395-7316. Please refer to “OMB Control No. [NEW] (Principles of Excellence Complaint Intake Questionnaire)” in any correspondence

FOR FURTHER INFORMATION CONTACT: Crystal Rennie, Enterprise Records Service (005R1B), Department of Veterans Affairs, 810 Vermont Avenue NW, Washington, DC 20420, (202) 632-7492, Fax (202) 632-7583 or email crystal.rennie@va.gov. Please refer to “OMB Control No. [NEW] (Principles of Excellence Complaint Intake Questionnaire).”

SUPPLEMENTARY INFORMATION:

Title: Principles of Excellence Complaint Intake Questionnaire, VA Form 22-0959.

OMB Control Number: 2900-NEW.

Type of Review: New collection.

Abstract: The purpose of the centralized complaint system is to provide a standardized method for beneficiaries and others to submit a complaint or allegation that an entity or individual has not or may not have adhered to the principles of excellence established in the Executive Order 13607, Establishing Principles of Excellence for Educational Institutions Serving Service Members, Veterans, Spouses, and Other Family Members.

The Complaint Intake Form will enable VA to identify the entity or individual not in compliance with the Principles of Excellence and to assess the complaints of noncompliance. Assessment of compliance will include identifying areas we can improve to ensure adherence to the Principles of Excellence. The respondent will submit a complaint or allegation that an entity or individual has not adhered to the Principles of Excellence. The information gathered on the form can only be obtained from the individual respondent.

We are conducting a single 30-day public comment review period pursuant to 5 CFR 1320.13. This emergency approval, which will be for a limited time, will be followed by a request for extension of the approval for the standard 3-year period. An agency may not conduct or sponsor, and a person is not required to respond to a collection of information unless it displays a currently valid OMB control number.

Affected Public: Individuals or households.

Estimated Annual Burden: 400 hours.

Estimated Average Burden per Respondent: 15 minutes.

Frequency of Response: On occasion.

Estimated Number of Respondents: 1,200.

Dated: April 24, 2013.
By direction of the Secretary:
William F. Russo,
Deputy Director, Office of Regulations Policy and Management, Office of General Counsel, Department of Veterans Affairs.

[FR Doc. 2013-10112 Filed 4-29-13; 8:45 am]

BILLING CODE 8320-01-P